SECURITIES AND EXCHANGE COMMISSION

[Release No. 34-100919; File Nos. SR-NASDAQ-2024-001; SR-BX-2024-002; SR-GEMX-2024-02; SR-ISE-2024-02; SR-MRX-2024-01; SR-PHLX-2024-01]

Self-Regulatory Organizations; The Nasdaq Stock Market LLC; Nasdaq BX, Inc.; Nasdaq GEMX, LLC; Nasdaq ISE, LLC; Nasdaq MRX, LLC; Nasdaq PHLX LLC; Notice of Withdrawal of Proposed Rule Change To Establish Fees Related to Certain Historical Costs of the National Market System Plan Governing the Consolidated Audit Trail

September 4, 2024.

On January 2, 2024, The Nasdaq Stock Market LLC; Nasdaq BX, Inc.; Nasdaq GEMX, LLC; Nasdaq ISE, LLC; Nasdaq MRX, LLC; Nasdaq PHLX LLC (the “Exchanges”) filed with the Securities and Exchange Commission (the “Commission”), pursuant to Section 19(b)(1) of the Securities Exchange Act of 1934 (“Act”) ¹ and Rule 19b-4 thereunder,² proposed rule changes to establish fees for industry members related to certain historical costs of the National Market System plan governing the Consolidated Audit Trail. The proposed rule changes were immediately effective upon filing with the Commission pursuant to Section 19(b)(3)(A) of the Act.³ On February 13, 2024, the proposed rule changes were published in the Federal Register and the Commission temporarily suspended and instituted proceedings to determine whether to approve or disapprove the proposed rule changes.⁴ The Commission received six comments on the proposed rule changes and one response to those comments.⁵ On July 31, 2024, pursuant to Section 19(b)(2) of the Act,⁶ the Commission designated a longer period within which to approve the proposed rule changes or disapprove the proposed rule changes.⁷ On August 22, 2024, the Exchanges withdrew the proposed rule changes (SR-NASDAQ-2024-001; SR-BX-2024-002; SR-GEMX-2024-02; SR-ISE-2024-02; SR-MRX-2024-01; SR-PHLX-2024-01).

¹ 15 U.S.C.78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ Securities Exchange Act Release Nos. 34-99360 (January 17, 2024), 89 FR 10812 (February 13, 2024) (SR-NASDAQ-2024-001); 99358 (January 17, 2024), 89 FR 10773 (February 13, 2024) (SR-BX-2024-002); 99365 (January 17, 2024), 89 FR 10278 (February 13, 2024) (SR-GEMX-2024-02); 99366 (January 17, 2024), 89 FR 10239 (February 13, 2024) (SR-ISE-2024-02); 99361 (January 17, 2024), 89 FR 10201 (February 13, 2024) (SR-MRX-2024-01); 99359 (January 17, 2024), 89 FR 10164 (February 13, 2024) (SR-PHLX-2024-01).

⁵ See letters from: Edward Weisbaum, Executing Broker CBOE Floor, dated February 6, 2024; Howard Meyerson, Managing Director, Financial Information Forum, to Vanessa Countryman, Secretary, Commission, dated March 4, 2024; Thomas M. Merritt, Deputy General Counsel, Virtu Financial, Inc., to Vanessa Countryman, Secretary, Commission, dated March 5, 2024; Ellen Greene, Managing Director, Equities & Options Market Structure, SIFMA; Joseph Corcoran, Managing Director, Associate General Counsel, SIFMA, to Vanessa Countryman, Secretary, Commission, dated March 5, 2024; Stephen John Berger, Managing Director, Global Head of Government & Regulatory Policy, Citadel Securities, to Vanessa Countryman, Secretary, Commission, dated March 5, 2024; Joanna Mallers, Secretary, FIA Principal Traders Group, to Vanessa Countryman, Secretary, Commission, dated March 9, 2024; and Brandon Becker, CAT NMS Plan Operating Committee Chair, to Vanessa Countryman, Secretary, Commission, dated June 13, 2024.

⁶ 15 U.S.C. 78s(b)(2).

⁷ See Securities Exchange Act Release No. 100628 (Jul. 31, 2024), 89 FR 64010 (Aug. 6, 2024); The Commission designated October 10, 2024 as the date by it should approve or disapprove the proposed rule change.

⁸ 17 CFR 200.30-3(a)(12).

For the Commission, by the Division of Trading and Markets, pursuant to delegated authority.⁸
Sherry R. Haywood,
Assistant Secretary.

[FR Doc. 2024-20322 Filed 9-9-24; 8:45 am]

BILLING CODE 8011-01-P